DEPARTMENT OF LABOR

Employment and Training Administration

[TA-W-39,453]

The Arnold Engineering Company Ferrite Products Division Sevierville, TN; Notice of Revised Determination on Reconsideration

On January 18, 2002, the Department issued an Affirmative Determination Regarding Application on Reconsideration applicable to workers and former workers of the subject firm. The notice was published in the Federal Register on February 5, 2002 (67 FR 5295).

On September 25, 2001 the Department initially denied TAA to workers of The Arnold Engineering Company, Ferrite Products Division, Sevierville, Tennessee producing ceramic hard ferrite magnets because the “contributed importantly” group eligibility requirement of Section 222 of the Trade Act of 1974, as amended, was not met.

On reconsideration, the department surveyed additional customers of the subject plant regarding their purchases of ceramic hard ferrite magnets during the relevant period. The survey revealed that major declining customer(s) increased their imports of ceramic hard ferrite magnets, while decreasing their purchases from the subject plant during the relevant period.

Conclusion

After careful review of the additional facts obtained on reconsideration, I conclude that increased imports of articles like or directly competitive with ceramic hard ferrite magnets, contributed importantly to the declines in sales or production and to the total or partial separation of workers of The Arnold Engineering Company, Ferrite Products Division, Sevierville, Tennessee. In accordance with the provisions of the Act, I make the following certification:

All workers of The Arnold Engineering Company, Ferrite Products Division, Sevierville, Tennessee who became totally or partially separated from employed on or after May 30, 2000 through two years of this certification, are eligible to apply for adjustment assistance under Section 223 of the Trade Act of 1974.

Signed in Washington, DC this 11th day of February 2002.
Edward A. Tomchick,
Director, Division of Trade Adjustment Assistance.

[FR Doc. 02-5572 Filed 3-7-02; 8:45 am]

BILLING CODE 4510-30-M